DEPARTMENT OF COMMERCE

National Oceanic and Atmospheric Administration

RIN 0648-XF415

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that these Exempted Fishing Permit applications contain all of the required information and warrant further consideration. These Exempted Fishing Permits would authorize three commercial fishing vessels to conduct independent projects testing the economic viability of using hook gear to selectively target healthy pollock and haddock stocks in the Western Gulf of Maine and Cashes Ledge Closure Areas (excluding Cashes Ledge Habitat Closed Area), and to temporarily retain undersized catch for measurement and data collection.

Regulations under the Magnuson-Stevens Fishery Conservation and Management Act require publication of this notification to provide interested parties the opportunity to comment on applications for proposed Exempted Fishing Permits.

DATES: Comments must be received on or before May 31, 2017.

ADDRESSES: You may submit written comments by any of the following methods:

• Email: NMFS.GAR.EFP@noaa.gov. Include in the subject line “Comments on Hook Gear Access to WGOM and Cashes Ledge Closure Areas EFP.”

• Mail: John K. Bullard, Regional Administrator, NMFS, NE Regional Office, 55 Great Republic Drive, Gloucester, MA 01930. Mark the outside of the envelope “Comments on Hook Gear in WGOM and Cashes Ledge EFP.”

FOR FURTHER INFORMATION CONTACT: Claire Fitz-Gerald, Fishery Management Specialist, 978-281-9255, claire.fitz-gerald@noaa.gov.

SUPPLEMENTARY INFORMATION: Three commercial fishermen submitted separate and complete applications requesting an Exempted Fishing Permit (EFP) to conduct commercial fishing activities that the regulations would otherwise restrict. In total, these EFPs would authorize three commercial fishing vessels to fish a combined total of 200 trips in the Western Gulf of Maine (WGOM) and Cashes Ledge Closure Areas (excluding the Cashes Ledge Habitat Closed Area) with hook gear and to temporarily retain undersized catch for measurement and data collection.

This EFP would authorize the applicants to use hook gear to selectively target pollock and haddock while maintaining minimal bycatch. In addition, the applicants propose to leverage these exemptions to explore and develop premium markets to increase the value of the catch. This study would be conducted in the WGOM and Cashes Ledge Closure Areas (excluding habitat closed areas); the applicants have requested access to these areas based on reports that there is a high concentration of the target species located in these areas. The exemptions are necessary to conduct this study because vessels on commercial groundfish trips are prohibited from fishing for groundfish in these closed areas and from retaining undersized groundfish. EFP trips would occur year-round (excluding seasonal closures), although the majority of trips would occur in the summer and fall months. Participating vessels would take a combined total of 200 trips to closed areas. Trips would be roughly 24 hours or less in length. Estimated average catch would be between 1,000 and 2,000 lb (453.5 to 907.2 kg) of pollock and haddock, combined, per trip. Bycatch is expected to be minimal; applicants estimate 50 to 100 lb (22.7 to 45.4 kg) of cod and 10 to 25 lb (4.5 to 11.3 kg) of redfish and cusk per trip. Participating vessels would use a combination of automated jigging machines and handlines to target pollock and haddock; one vessel would use two jigging machines and three rods; another would use four rods only; the final vessel would use three jigging machines only.

Because these vessels would be fishing in closed areas, the agency would monitor their catch closely to ensure minimal interactions with Gulf of Maine cod. Cod catch would be restricted to 5 percent of the total expected catch, to be applied cumulatively across each project. In the event that an applicant exceeds the vessel's cap, that EFP authorization would end. One-hundred-percent monitoring would be required for this EFP. A vessel may carry a Northeast Fishery Observer Program (NEFOP) or At-Sea Monitoring (ASM) observer assigned to the trip through the Pre-Trip Notification System (PTNS). In the event of a waiver, the applicant must secure data collection services from a third party ASM provider, at the vessel's expense. All observers would record lengths of kept and discarded fish, gear characteristics, and fishing location. Undersized fish would be sampled and returned to the water as quickly as possible. All legal-sized Northeast multispecies would be landed, and all catch would be attributed to the vessel's sector annual catch entitlement in accordance with standard catch accounting procedures. All proceeds from the sale of catch would be retained by the vessel. The applicant would maintain a record of all ex-vessel price information to inform the questions about the ability this gear to establish a premium market for the target species.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 11, 2017.
Karen H. Abrams,
Acting Deputy Director, Office of Sustainable Fisheries, National Marine Fisheries Service.

[FR Doc. 2017-09879 Filed 5-15-17; 8:45 am]

BILLING CODE 3510-22-P